DEPARTMENT OF THE INTERIOR

National Park Service

[NPS-WASO-NAGPRA-17978;PPWOCRADN0-PCU00RP14.R50000]

Notice of Intent to Repatriate Cultural Items: Brooklyn Museum, Brooklyn, NY

AGENCY: National Park Service, Interior.

ACTION: Notice.

SUMMARY: The Brooklyn Museum, in consultation with the appropriate Indian tribes or Native Hawaiian organizations, has determined that the cultural items listed in this notice meet the definition of sacred objects and objects of cultural patrimony. Lineal descendants or representatives of any Indian tribe or Native Hawaiian organization not identified in this notice that wish to claim these cultural items should submit a written request to the Brooklyn Museum. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Brooklyn Museum at the address in this notice by May 28, 2015.

ADDRESSES: Susan Kennedy Zeller, Associate Curator of Native American Art, Brooklyn Museum, 200 Eastern Parkway, Brooklyn, NY 11238-6052, telephone (718) 501-6282, email susan.zeller@brooklynmuseum.org.

SUPPLEMENTARY INFORMATION: Notice is here given in accordance with the Native American Graves Protection and Repatriation Act (NAGPRA), 25 U.S.C. 3005, of the intent to repatriate cultural items under the control of the Brooklyn Museum, Brooklyn, NY, that meet the definition of sacred objects and objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Between 1903 and 1910, 24 cultural items were removed from the Pueblo of Laguna in Cibola, Valencia, Bernalillo, and Sandoval Counties, NM. Through research of museum records and archives, every indication is that these Laguna items were collected by Lorenzo Wurth, former clerk in Bebo's Store located near Laguna Pueblo, and purchased from him by the Brooklyn Museum's curator Stewart Culin in 1910. A letter from Wurth to Culin (April 19, 1908) offers items for sale, and a Wurth inventory of some 160 items dated October 3, 1909, was also sent to Culin. The inventory list provides general descriptions such as “dance Mask,” and “sacred mask” and “prayer sticks.” A museum accession number “11478” was assigned to this entire collection in October 1910 in the museum's accession ledger. In subsequent years, 11 items have been found in the collection with tags bearing numbers matching the Wurth inventory list. Given the small number of Laguna items in the collection, it is logical to assume that items matching this list's description belong to this 1910 group. Culin's expedition reports also document his visit to Laguna Pueblo in 1903, his meeting there with clerk Lorenzo Wurth, and the fact that Wurth had a collection of masks and sacred items that interested Culin. The 24 sacred objects and objects of cultural patrimony proposed for repatriation are: One mask piece, five Katsina Friends, 11 prayer sticks tied in pairs of two each, and seven single prayer sticks.

The review of available documentation, in addition to physical inspections by two Pueblo of Laguna delegations, has resulted in confirmation from the Pueblo of Laguna religious leaders that the cultural items are of Pueblo of Laguna origin. The Pueblo of Laguna asserts that a relationship of shared group identity exists between the Pueblo of Laguna in 1910, and the present-day Pueblo of Laguna. The Katsina Friends were created within the Pueblo of Laguna religious system with construction techniques still in use today. In addition to the positive identification by the Laguna Pueblo religious leaders that the cultural items are of Laguna Pueblo origin, cultural affiliation with the Pueblo of Laguna is evident by these diagnostic features.

Determinations Made by the Brooklyn Museum

Officials of the Brooklyn Museum have determined that:

• Pursuant to 25 U.S.C. 3001(3)(C), the 24 cultural items described above are specific ceremonial objects needed by traditional Native American religious leaders for the practice of traditional Native American religions by their present-day adherents.

• Pursuant to 25 U.S.C. 3001(3)(D), the 24 cultural items described above have ongoing historical, traditional, or cultural importance central to the Native American group or culture itself, rather than property owned by an individual.

• Pursuant to 25 U.S.C. 3001(2), there is a relationship of shared group identity that can be reasonably traced between the sacred objects and objects of cultural patrimony and the Pueblo of Laguna, New Mexico.

Additional Requestors and Disposition

Lineal descendants or representatives of any Indian tribe or Native Hawaiian organization not identified in this notice that wish to claim these cultural items should submit a written request with information in support of the claim to Susan Kennedy Zeller, Associate Curator of Native American Art, Brooklyn Museum, 200 Eastern Parkway, Brooklyn, NY 11238-6052, telephone (718) 501-6282, email susan.zeller@brooklynmuseum.org, by May 28, 2015. After that date, if no additional claimants have come forward, transfer of control of the sacred objects and objects of cultural patrimony to the Pueblo of Laguna may proceed.

The Brooklyn Museum is responsible for notifying the Pueblo of Laguna that this notice has been published.

Dated: March 20, 2015.
Mariah Soriano,
Acting Manager, National NAGPRA Program.

[FR Doc. 2015-09925 Filed 4-27-15; 8:45 am]

BILLING CODE 4312-50-P